DEPARTMENT OF HEALTH AND HUMAN SERVICES

Health Resources and Services Administration

Availability of Funds in the HRSA Preview; Withdrawal

AGENCY: Health Resources and Services Administration, HHS.

ACTION: Notice; withdrawal.

SUMMARY: In the Federal Register notice of Friday, July 7, 2000, in Part III “Availability of Funds Announced in the HRSA Preview” of FR Doc. 00-16874, on page 42217, the grant category beginning in the first column under the heading “Partnership for Information and Communication (PIC) MCH Cooperative Agreements, CFDA# 93.110G,” is withdrawn from competition because no competition is needed to fund all potential eligibles for this fiscal year. Prospective applicants have been notified directly of this withdrawal.

FOR FURTHER INFORMATION CONTACT: Sue Martone, Division of Child, Adolescent and Family Health, Maternal and Child Health Bureau, Health Resources and Services Administration, Room 18A-30, Parklawn Building, 5600 Fishers Lane, Rockville, MD 20857; telephone 1-301-443-2250.

Dated: February 14, 2001.
James J. Corrigan,
Associate Administrator for Management and Program Support.

[FR Doc. 01-4232 Filed 2-20-01; 8:45 am]

BILLING CODE 4160-15-U